DEPARTMENT OF TRANSPORTATION

Federal Aviation Administration

14 CFR Part 39

[Docket No. FAA-2005-20439; Directorate Identifier 2005-CE-04-AD]

RIN 2120-AA64

Airworthiness Directives; AeroSpace Technologies of Australia Pty Ltd. Models N22B, N22S, and N24A Airplanes

AGENCY: Federal Aviation Administration (FAA), DOT.

ACTION: Notice of proposed rulemaking (NPRM).

SUMMARY: The FAA proposes to supersede Airworthiness Directive (AD) 2003-14-20, which applies to all AeroSpace Technologies of Australia Pty Ltd. (ASTA) Models N22B and N24A airplanes. AD 2003-14-20 requires you to repetitively inspect, using either dye penetrant or magnetic particle methods, the rudder control lever shafts for cracks; inspect (one-time) all lever shaft side plates by measuring the thickness; and if cracks or discrepancies in thickness are found, replace unserviceable parts with new or serviceable parts. Since AD 2003-14-20 was issued, we determined that the AD should also affect Model N22S airplanes. The manufacturer has also revised the service information to include a rudder control lever shaft part number (P/N) that was not part of AD 2003-14-20. Consequently, this proposed AD would require the actions of AD 2003-14-20, add Model N22S airplanes to the applicability, and add rudder control lever shaft P/N 1/N-45-1102 to the inspection requirements. We are issuing this proposed AD to detect and correct cracks in the rudder control lever torque shafts and discrepancies in the thickness of the lever shaft side plates, which could result in failure of the rudder control lever torque shaft. Such failure could lead to reduced controllability of the airplane.

DATES: We must receive any comments on this proposed AD by April 15, 2005.

ADDRESSES: Use one of the following to submit comments on this proposed AD:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-001.

• Fax: 1-202-493-2251.

• Hand Delivery: Room PL-401 on the plaza level of the Nassif Building, 400 Seventh Street, SW., Washington, DC, between 9 a.m. and 5 p.m., Monday through Friday, except Federal holidays.

To get the service information identified in this proposed AD, contact Nomad Operations, Aerospace Support Division, Boeing Australia, PO Box 767, Brisbane, QLD 4001 Australia; telephone 61 7 3306 3366; facsimile 61 7 3306 3111.

To view the comments to this proposed AD, go to http://dms.dot.gov. The docket number is FAA-2005-20439; Directorate Identifier 2005-CE-04-AD.

FOR FURTHER INFORMATION CONTACT: Doug Rudolph, Aerospace Engineer, Small Airplane Directorate, ACE-112, 901 Locust, Room 301, Kansas City, Missouri 64106; telephone: (816) 329-4059; facsimile: (816) 329-4090.

SUPPLEMENTARY INFORMATION:

Comments Invited

How do I comment on this proposed AD? We invite you to submit any written relevant data, views, or arguments regarding this proposal. Send your comments to an address listed under ADDRESSES. Include the docket number, “FAA-2005-20439; Directorate Identifier 2005-CE-04-AD” at the beginning of your comments. We will post all comments we receive, without change, to http://dms.dot.gov, including any personal information you provide. We will also post a report summarizing each substantive verbal contact with FAA personnel concerning this proposed rulemaking. Using the search function of our docket Web site, anyone can find and read the comments received into any of our dockets, including the name of the individual who sent the comment (or signed the comment on behalf of an association, business, labor union, etc.). This is docket number FAA-2005-20439; Directorate Identifier 2005-CE-04-AD. You may review the DOT's complete Privacy Act Statement in the Federal Register published on April 11, 2000 (65 FR 19477-78) or you may visit http://dms.dot.gov.

Are there any specific portions of this proposed AD I should pay attention to? We specifically invite comments on the overall regulatory, economic, environmental, and energy aspects of this proposed AD. If you contact us through a nonwritten communication and that contact relates to a substantive part of this proposed AD, we will summarize the contact and place the summary in the docket. We will consider all comments received by the closing date and may amend this proposed AD in light of those comments and contacts.

Docket Information

Where can I go to view the docket information? You may view the AD docket that contains the proposal, any comments received, and any final disposition in person at the DMS Docket Offices between 9 a.m. and 5 p.m. (eastern standard time), Monday through Friday, except Federal holidays. The Docket Office (telephone 1-800-647-5227) is located on the plaza level of the Department of Transportation Nassif Building at the street address stated in ADDRESSES. You may also view the AD docket on the Internet at http://dms.dot.gov. The comments will be available in the AD docket shortly after the DMS receives them.

Discussion

Has FAA taken any action to this point? Reports of cracking and other discrepancies on rudder control lever shaft assemblies on certain ASTA Models N22B and N24A airplanes caused us to issue AD 82-12-06, Amendment 39-4399. AD 82-12-06 required the following:

—Repetitively inspecting visually all rudder control lever shafts for cracking;

—If cracks are found, replacing with new or serviceable rudder control shafts;

—Checking for clearance of the fit of all rod end bearings in lever shafts; and

—Discontinuing the repetitive visual inspections when lever shafts are inspected either by magnetic particle inspection or dye penetrant methods.

The Civil Aviation Safety Authority (CASA), which is the airworthiness authority for Australia notified FAA of the need to change AD 82-12-06. The CASA reported failures of the rudder control lever shaft. All the failures occurred during ground operations. Nosewheel steering/rudder loads are considered the primary cause of the failures.

Some of the failures occurred on airplanes where the terminating action of AD 82-12-06 had been incorporated. This caused us to issue AD 2003-14-20, Amendment 39-13239 (68 FR 42954, July 21, 2003).

AD 2003-14-20 currently requires the following on all ASTA Model N22B and N24A airplanes:

—Repetitively inspecting, using either dye penetrant or magnetic particle methods and measurements, certain rudder control lever shafts, part numbers (P/N) 2/N-45-1102, 1/N-45-1103, and 1/N-45-1104 (or FAA-approved equivalent part numbers), for cracks;

—Inspecting (one-time) all lever shaft side plates by measuring the thickness; and

—If cracks or discrepancies in thickness are found, replacing unserviceable parts with new or serviceable parts.

What has happened since AD 2003-14-20 to initiate this proposed action? Since AD 2003-14-20 was issued, we determined that AD 2003-14-20 should also affect Model N22S airplanes.

The manufacturer has also revised the service information to include a rudder control lever shaft part number (P/N) that was not part of AD 2003-14-20.

What is the potential impact if FAA took no action? This condition, if not detected and corrected, could result in failure of the rudder control lever torque shaft. Such failure could lead to reduced controllability of the airplane.

Is there service information that applies to this subject? Aerospace Technologies of Australia Limited has issued Nomad Alert Service Bulletin ANMD-27-51, Rev. 2, dated April 29, 2004; and Nomad—Series N22 & N24 Inspection Requirements Manual, Temporary Revision 26, Fatigue Critical Areas, dated May 27, 2004.

What are the provisions of this service information? Nomad Alert Service Bulletin ANMD-27-51, Rev. 2, dated April 29, 2004, includes procedures for:

—Inspecting, using dye penetrant or magnetic particle methods, rudder control lever shafts, P/Ns 1/N-45-1102, 2/N-45-1102, 1/N-45-1103, and 1/N-45-1104, for cracks;

—Inspecting all lever shaft side plates by measuring the thickness; and

—If cracks or discrepancies in thickness are found, replacing unserviceable parts with new or serviceable parts.

Nomad—Series N22 & N24 Inspection Requirements Manual, Temporary Revision 26, Fatigue Critical Areas, dated May 27, 2004, includes procedures for:

—Inspecting, using dye penetrant method, rudder control lever shafts, P/Ns 1/N-45-1103 and 1/N-45-1104 for cracks;

—Inspecting, using magnified (10x) visual methods, rudder control lever shafts, P/Ns 1/N-45-1102 and 2/N-45-1102 for cracks; and

—If any cracks are found, replacing unserviceable parts with new or serviceable parts.

What action did the CASA take? The CASA classified this service information as mandatory and issued Australian AD GAF-N22/44, Amendment 2, dated November 2004, to ensure the continued airworthiness of these airplanes in Australia.

Did the CASA inform the United States under the bilateral airworthiness agreement? These Model N22B, N22S, and N24A airplanes are manufactured in Australia and are type-certificated for operation in the United States under the provisions of section 21.29 of the Federal Aviation Regulations (14 CFR 21.29) and the applicable bilateral airworthiness agreement.

Under this bilateral airworthiness agreement, the CASA has kept us informed of the situation described above.

FAA's Determination and Requirements of This Proposed AD

What has FAA decided? We have examined the CASA's findings, reviewed all available information, and determined that AD action is necessary for products of this type design that are certificated for operation in the United States.

Since the unsafe condition described previously is likely to exist or develop on other Model N22B, N22S, and N24A airplanes of the same type design that are registered in the United States, we are proposing AD action to detect and correct cracks in the rudder control lever torque shafts and discrepancies in the thickness of the lever shaft side plates, which could result in failure of the rudder control lever torque shaft. Such failure could lead to reduced controllability of the airplane.

What would this proposed AD require? This proposed AD would supersede AD 2003-14-20 with a new AD that would require the actions of AD 2003-14-20, add Model N22S airplanes to the applicability, and add rudder control lever shaft P/N 1/N-45-1102 to the inspection requirements.

How does the revision to 14 CFR part 39 affect this proposed AD? On July 10, 2002, we published a new version of 14 CFR part 39 (67 FR 47997, July 22, 2002), which governs FAA's AD system. This regulation now includes material that relates to altered products, special flight permits, and alternative methods of compliance. This material previously was included in each individual AD. Since this material is included in 14 CFR part 39, we will not include it in future AD actions.

Costs of Compliance

How many airplanes would this proposed AD impact? We estimate that this proposed AD affects 15 airplanes in the U.S. registry.

What would be the cost impact of this proposed AD on owners/operators of the affected airplanes? We estimate the following costs to do the proposed initial inspection:

Labor cost | Parts cost | Total cost per airplane | Total cost on U.S. operators
12 workhours × $65 per hour = $780 | Not Applicable | $780 | 15 × $780 = $11,700

We estimate the following costs to accomplish the necessary repetitive inspections:

Labor cost | Parts cost | Total cost per airplane
2 workhours × $65 per hour = $130 | Not Applicable | $130

We estimate the following costs to accomplish any rudder control lever shaft replacement that would be required based on the results of the proposed inspections. We have no way of determining the number of airplanes that may need such replacement:

Labor cost | Parts cost | Total cost per airplane
12 workhours × $65 per hour = $780 | $930 | $780 + $930 = $1710

We estimate the following costs to accomplish any lever shaft side plate replacements that would be required based on the results of the proposed inspection. We have no way of determining the number of airplanes that may need such replacement:

Labor cost | Parts cost | Total cost per airplane
12 workhours × $65 per hour = $780 | $930 | $780 + $930 = $1710

What is the difference between the cost impact of this proposed AD and the cost impact of AD 2003-14-20? The only difference between AD 2003-14-20 and this proposed AD is the addition of Model N22S airplanes to the applicability section. There are no additional actions required in this proposed AD.

Authority for This Rulemaking

What authority does FAA have for issuing this rulemaking action? Title 49 of the United States Code specifies the FAA's authority to issue rules on aviation safety. Subtitle I, Section 106 describes the authority of the FAA Administrator. Subtitle VII, Aviation Programs, describes in more detail the scope of the agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

Would this proposed AD impact various entities? We have determined that this proposed AD would not have federalism implications under Executive Order 13132. This proposed AD would not have a substantial direct effect on the States, on the relationship between the National Government and the States, or on the distribution of power and responsibilities among the various levels of government.

Would this proposed AD involve a significant rule or regulatory action? For the reasons discussed above, I certify that this proposed AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this proposed AD and placed it in the AD Docket. You may get a copy of this summary by sending a request to us at the address listed under ADDRESSES. Include “AD Docket FAA-2005-20439; Directorate Identifier 2005-CE-04-AD” in your request.

List of Subjects in 14 CFR Part 39

Air transportation, Aircraft, Aviation safety, Safety.

The Proposed Amendment

Accordingly, under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2003-14-20, Amendment 39-13239 (68 FR 42954, July 21, 2003), and by adding a new AD to read as follows:

Aerospace Technologies of Australia PTY Ltd.: Docket No. FAA-2005-20439; Directorate Identifier 2005-CE-04-AD; Supersedes AD 2003-14-20, Amendment 39-13239.

When Is the Last Date I Can Submit Comments on This Proposed AD?

(a) We must receive comments on this proposed airworthiness directive (AD) by April 15, 2005.

What Other ADs Are Affected by This Action?

(b) This AD supersedes AD 2003-14-20, Amendment 39-13239.

What Airplanes Are Affected by This AD?

(c) This AD affects Models N22B, N22S, and N24A airplanes, all serial numbers, that are certificated in any category.

What Is the Unsafe Condition Presented in This AD?

(d) This AD is the result of continuing airworthiness information (MCAI) issued by the airworthiness authority for Australia. The actions specified in this AD are intended to detect and correct cracks in the rudder control lever torque shafts and discrepancies in the thickness of the lever shaft side plates, which could result in failure of the rudder control lever torque shaft. Such failure could lead to reduced controllability of the airplane.

What Must I Do To Address This Problem?

(e) To address this problem, you must do the following:

Actions | Compliance | Procedures
(1) Inspect the following:
(i) The rudder control lever shafts, part numbers (P/N) 1/N-45-1102, 2/N-45-1102, 1/N-45-1103, and 1/N-45-1104 (or FAA-approved equivalent part numbers) for cracks. Use dye penetrant inspection while the shaft is installed. Use either dye penetrant or magnetic particle inspection if the shaft is removed; and | Initially inspect within the next 50 hours time-in-service (TIS) or 30 days after the effective date of this AD, whichever occurs first, unless already done | Following Nomad Alert Service Bulletin ANMD-27-51, Rev. 2, dated April 29, 2004, and the applicable maintenance manual.
(ii) All lever shaft side plates on P/Ns 1/N-45-1102, 2/N-45-1102, 1/N-45-1103, and 1/N-45-1104 (or FAA-approved equivalent part numbers) by measuring the thickness for discrepancies
(2) If no cracks are found in the rudder control lever shafts during the inspection required in paragraph (e)(1)(i) of this AD, repetitively inspect rudder control lever shafts P/Ns 1/N-45-1102, 2/N-45-1102, 1/N-45-1103, and 1/N-45-1104 (or FAA-approved equivalent part numbers) for cracks | Repetitively inspect thereafter at intervals not to exceed 300 hours TIS after the initial inspection required in paragraph (e)(1) of this AD | Following Nomad—Series N22 & N24 Inspection Requirements Manual, Temporary Revision 26, Fatigue Critical Areas, dated May 27, 2004.
(3) If cracks or discrepancies are found during any inspection required by this AD, do the following: | Before further flight after any inspection required by this AD in which cracks or discrepancies in are found | Following Nomad Alert Service Bulletin ANMD-27-51, Rev. 2, dated April 29, 2004, and the applicable maintenance manual.
(i) For rudder control lever shafts found with crack damage, replace with new or serviceable parts. Continue with the repetitive inspections required paragraph (e)(2) of this AD
(ii) If the thickness of the lever shaft side plates is less than 0.050 inches, replace the lever shaft side plate with a new plate that measures at least 0.050 inches in thickness
(4) If at any time certain operating conditions occur that caused abnormal rudder pedal loads, inspect the rudder control lever shafts as specified in paragraph (e)(2) of this AD. Examples of such conditions are: heavy use of nosewheel steering over rough ground; excessive steering angle under tow; towing with rudder gust lock fitted; engine failure on takeoff; and aircraft left parked outside with rudder gust lock not fitted | Before further flight | Following Nomad—Series N22 & N24 Inspection Requirements Manual, Temporary Revision 26, Fatigue Critical Areas, dated May 27, 2004.
(5) Do not install a new lever shaft side plate that is less than 0.050 inches in thickness | As of the effective date of this AD | As specified in Nomad Alert Service Bulletin ANMD-27-51, Rev. 2, dated April 29, 2004; and Nomad—Series N22 & N24 Inspection Requirements Manual, Temporary Revision 26, Fatigue Critical Areas, dated May 27, 2004.

May I Request an Alternative Method of Compliance?

(f) You may request a different method of compliance or a different compliance time for this AD by following the procedures in 14 CFR 39.19.

(1) Unless FAA authorizes otherwise, send your request to your principal inspector. The principal inspector may add comments and will send your request to the Manager, Standards Office, Small Airplane Directorate, FAA. For information on any already approved alternative methods of compliance, contact Doug Rudolph, Aerospace Engineer, Small Airplane Directorate, ACE-112, 901 Locust, Rm 301, Kansas City, Missouri, 64106; telephone: (816) 329-4059; facsimile: (816) 329-4090.

(2) Alternative methods of compliance approved for AD 2003-14-20 are not considered approved as alternative methods of compliance for this AD.

Is There Other Information That Relates to This Subject?

(g) Australian AD GAF-N22/44, Amendment 2, dated November 2004, also addresses the subject of this AD.

May I Get Copies of the Documents Referenced in This AD?

(h) To get copies of the documents referenced in this AD, contact Nomad Operations, Aerospace Support Division, Boeing Australia, PO Box 767, Brisbane, QLD 4001 Australia; telephone 61 7 3306 3366; facsimile 61 7 3306 3111. To view the AD docket, go to the Docket Management Facility; U.S. Department of Transportation, 400 Seventh Street, SW., Nassif Building, Room PL-401, Washington, DC, or on the Internet at http://dms.dot.gov. This is docket number FAA-2005-20439; Directorate ID 2005-CE-04-AD.

Issued in Kansas City, Missouri, on March 10, 2005.
David R. Showers,
Acting Manager, Small Airplane Directorate, Aircraft Certification Service.

[FR Doc. 05-5153 Filed 3-15-05; 8:45 am]

BILLING CODE 4910-13-P